DEPARTMENT OF THE TREASURY

Community Development Financial Institutions Fund

Notice of Funds Availability

ACTION: Technical correction to the maximum TA award amount cited in the Executive Summary of the NOFA.

SUPPLEMENTARY INFORMATION:

Funding Opportunity Number: CDFI-2024-NACA.

Catalog of Federal Domestic Assistance (CFDA) Number: 21.012.

Executive Summary: On December 11, 2023, the Community Development Financial Institutions Fund (CDFI Fund) published a Notice of Funds Availability (NOFA) inviting Applications for Financial Assistance (FA) or Technical Assistance (TA) awards under the Native American CDFI Assistance (NACA Program) fiscal year (FY) 2024 Funding Round. The CDFI Fund is issuing this notice to correct the maximum TA award amount cited in the Executive Summary of the NOFA.

In the Federal Register/Vol. 88, No. 236/Monday, December 11, 2023/Notices. On page 85995, in the third column, the following sentence of the Executive Summary: “(ii) TA awards of up to $300,000 to build Certified, and Emerging CDFIs' organizational capacity to serve Eligible Markets and/or their Target Markets, and Sponsoring Entities' ability to create Certified CDFIs that serve Native Communities” is corrected to read: “(ii) TA awards of up to $400,000 to build Certified, and Emerging CDFIs' organizational capacity to serve Eligible Markets and/or their Target Markets, and Sponsoring Entities' ability to create Certified CDFIs that serve Native Communities.”

All other award amount information shall remain in accordance with the NOFA published on December 11, 2023.

I. Agency Contacts

A. General Information and CDFI Fund Support

The CDFI Fund will respond to questions concerning the NOFA and the Application between the hours of 9:00 a.m. and 5:00 p.m. Eastern Time, starting on the date that the NOFA was published through the dates listed in this notice. The CDFI Fund strongly recommends Applicants submit questions to the CDFI Fund via an AMIS service request to the NACA Program, Office of Certification Policy and Evaluation, the Office of Compliance Monitoring and Evaluation, or IT Help Desk. Other information regarding the CDFI Fund and its programs may be obtained from the CDFI Fund's website at http://www.cdfifund.gov.

B. The CDFI Fund's Contact Information is as Follows:

Table A—Contact Information
Type of question | Preferred method | Telephone number (not toll free) | Email addresses
NACA Program Questions | Service Request via AMIS | 202-653-0421, Option 1 | cdfihelp@cdfi.treas.gov.
CDFI Certification | Service Request via AMIS | 202-653-0423 | ccme@cdfi.treas.gov.
Compliance Monitoring and Evaluation | Service Request via AMIS | 202-653-0423 | ccme@cdfi.treas.gov.
AMIS—IT Help Desk | Service Request via AMIS | 202-653-0422 | AMIS@cdfi.treas.gov.

C. Communication With the CDFI Fund

The CDFI Fund will use the contact information in AMIS to communicate with Applicants and Recipients. It is imperative therefore, that Applicants, Recipients, Subsidiaries, Affiliates, and signatories maintain accurate contact information in their accounts. This includes information such as contact names (especially for the Authorized Representative), email addresses, fax and phone numbers, and office locations. For more information about AMIS, please see the AMIS Landing Page at https://amis.cdfifund.gov.

Authority: 12 U.S.C. 4701, et seq; 12 CFR parts 1805 and 1815; 2 CFR part 200.

Dated: January 25, 2024.
Marcia Sigal,
Acting Director, Community Development Financial Institutions Fund.

[FR Doc. 2024-01879 Filed 1-30-24; 8:45 am]

BILLING CODE 4810-05-P